DEPARTMENT OF AGRICULTURE

Forest Service

Mines Management Inc. Montanore Project, Kootenai National Forest, Lincoln County, MT

AGENCY: Forest Service, USDA.

ACTION: Notice of intent to prepare an environmental impact statement.

SUMMARY: The Department of Agriculture, Forest Service, Kootenai National Forest, in conjunction with Montana Department of Environmental Quality, will prepare an environmental impact statement (EIS) to document the analysis and disclose the environmental impacts of the proposed action to permit the construction, operation and reclamation of the Montanore silver/copper mine project and associated power transmission line. The project is located on public and private islands approximately 18 miles south of Libby, Montana. Mines Management, Inc. submitted a proposed Plan of Operations and an application for a Hard Rock Operating Permit on January 3, 2005, pursuant to Forest Service locatable mineral regulations 36 CFR part 228, subpart A, and the State of Montana Metal Mine Reclamation Act MCA 82-4-301 et. seq. A single EIS evaluating all components of the proposed project will be prepared.

DATES: Comments concerning the proposed action must be postmarked by September 15, 2005, to be considered in the draft EIS. The draft EIS is expected May 2006 and the final EIS is expected by January 2007.

ADDRESSES: Send written comments concerning the Proposed Action to Bob Castaneda, Forest Supervisor, Montanore Project, Kootenai National Forest, 1101 U.S. Hwy 2 West, Libby, MT 59923, or e-mail your comments to rl_montanore@fs.fed.us. All comments received must contain: name of commenter, post service mailing address, and date of comment. Comments sent as an e-mail message should be sent as an attachment to the message. A copy on computer-generated disc, should accompany all comments over one page in length.

FOR FURTHER INFORMATION CONTACT: Bobbie Lacklen, Project Coordinator, Canoe Gulch Ranger Station, 12557 Hwy 37, Libby, Montana 59923. Phone (406) 293-7773, or e-mail at blacklen@fs.fed.us, or consult http://www.fs.fed.us/rl/kootenai/projects/montanore.

SUPPLEMENTARY INFORMATION: Mines Management Inc. owns two patented mining claims (HR 133 & HR 134) with mineral rights that extend beneath the Cabinet Mountains Wilderness. On January 3, 2005, Mines Management Inc. submitted to the Kootenai National Forest and Montana Department of Environmental Quality an application for a Hard Rock Operating Permit and a proposed Plan of Operations for the Montanore Project. The ore body is located beneath the Cabinet Mountains Wilderness. All surface disturbances including mill facilities, transmission lines, across roads, and the tailings disposal impoundment would be located outside the Cabinet Mountains Wilderness area.

Proposed Action

The Montanore Project, as proposed by Mines Management, Inc. would consist initially of a 12,500 tons per underground mining operation that would expand a 20,000 tons per day rate. The surface mill would be located on National Forest System lands outside of the Cabinet Mountains Wilderness in the Ramsey Creek drainage. The ore body would be accessed from two portals located adjacent to the mill. Two ventilation portals, both located on private lands, would be utilized during the project. One ventilation portal would be located in the upper Libby Creek drainage; the other would be located in the upper Rock Creek drainage near Rock Lake.

A 230-kilovolt electric transmission line would be constructed from Pleasant Valley (Sedlak Park) along U.S. Highway 2, and then routed up Miller Creek drainage to the project site.

The size of the ore body is approximately 135 million tons. Ore would be crushed underground and conveyed to the surface mill located near the Ramsey Creek portals. Copper and silver minerals would be removed from the ore by a flotation process. Tailings from the milling process would be transported through a pipeline to the tailings disposal impoundment located in the Little Cherry Creek drainage, a distance of about four miles from the proposed mill site.

Access to the mine and all surface facilities would be via U.S. Highway 2 and the existing Bear Creek road. Mines Management, Inc. would upgrade an estimated 11 miles of the Bear Creek road to standards specified by the agencies. Silver/copper concentrate from the mill would be shipped by truck to a rail siding in Libby, Montana. The concentrate would then be transported by rail to an out-of-state smelting facility. Mining operations are projected to continue for an estimated 15 years once facility development is completed and actual mining operations commence. The mill and mine would operate on a three shifts per day, seven days per week, yearlong schedule.

An estimated seven million tons of ore would be produced annually during a 350-day production year. Employment numbers are estimated to be 450 people when at full production. An annual payroll of $12 million is projected for full production periods. Mines Management, Inc.'s permit area utilizes approximately 3,000 acres of National Forest System land and approximately 200 acres of private land for the proposed mine and associated facilities including the power transmission line. All surface activities would be outside designated wilderness. Mines Management, Inc. has developed a reclamation plan to rehabilitate the disturbed areas following the phases associated with exploration, construction, operation, and ultimately, mine closure.

Lead and Cooperating Agencies

The U.S. Army Corps of Engineers, U.S. Environmental Protection Agency, U.S. Fish and Wildlife Service, Montana Department of Natural Resources and Conservation, Confederated Salish and Kootenai Tribes, Kootenai Tribe of Idaho, and the Bonneville Power Administration have either jurisdiction or interest and will participate as cooperating agencies or government entities in the preparation of this EIS. The USDA Forest Service and the Montana Department of Environmental Quality have agreed to be the Lead Agencies for this project. Other governmental agencies and any public that may be interested in or affected by the proposal are invited to participate in the scoping process, which is designed to obtain input and to identify potential issues relating to the proposed project.

Responsible Officials

Bob Castaneda, Forest Supervisor, Kootenai National Forest, 1101 U.S. Hwy 2 West, Libby, MT 59923 and Richard Opper, Director, Montana Department of Environmental Quality, Director's Office, 1520 E 6th Ave., Helena, MT 59620-9601, will be jointly responsible for the EIS. These two agencies will make a decision regarding this proposal after considering comments and responses pertaining to environmental consequences discussed in the Final EIS and all applicable laws regulations, and policies. The decision of a selected alternative and supporting reasoning will be documented in a Record of Decision.

Preliminary Issues and Alternatives

The EIS will consider a range of alternatives based on the issues, concerns, and opportunities associated with the Montanore Project.

A preliminary identification of issues, concerns, and opportunities are:

• What effect would the proposed project have on the Cabinet Mountains Wilderness?

• How would the project affect wildlife, especially grizzly bear and bull trout?

• How might the quantity and quality of water in the project area be affected?

• How stable would the proposed tailings impoundment facility be, and to what degree would the site be reclaimed following mine closure?

• What would be the social and economic effects to local communities?

• What would be the cumulative effects of the Montanore Project and other past, present and reasonably foreseeable activities including the permitted Rock Creek Mine?

Two primary alternatives will be considered: A No Action Alternative and an alternative to approve the project as Proposed. Other alternatives will be developed that consist of modifications of, or changes to various elements comprising the proposal.

Nature of Decision To Be Made

The nature of the decision to be made is to select an action that meets the legal rights of the proponent, while protecting the environment in compliance with applicable laws, regulations and policy. The Forest Supervisor will use the EIS process to develop the necessary information to make an informed decision as required by 36 CFR part 228 subpart A. Based on the alternatives developed in the EIS, the following are possible decisions:

(1) An approval of the Plan of Operations as submitted;

(2) An approval of the Plan of Operations with changes, and the incorporation of mitigations and stipulations that meet the mandates of applicable laws, regulations, and policy;

(3) Denial of the Plan of Operations if no alternative can be developed that is in compliance with applicable laws, regulations and policy.

Permits or Licenses Required

Various permits and licenses are needed prior to implementation of this project. Permits or licenses required by the issuing agencies identified for this proposal are:

• Approval of Plan of Operations from the Kootenai National Forest

• Hardrock Mine Operating Permit from the Montana Department of Environmental Quality

• Air Quality Permit from the Montana Department of Environmental Quality

• Storm Water Permit and Montana Pollution Discharge Elimination System (MPDES) Permit from the Montana Department of Environmental Quality

• 404 Permit from the U.S. Army Corps of Engineers

• Water Rights Permit from the Montana Department of Natural Resources and Conservation

• 310 Permit from the Montana Department of Fish, Wildlife and Parks and Lincoln County Conservation District

• Special Use Permits from the Kootenai National Forest

• Major Facility Siting Act (MFSA) Certificate of Compliance from the Montana Department of Environmental Quality.

Comment Requested

This Notice of Intent initiates the scoping process, which guides the development of the EIS. At this stage of the planning process, site-specific public comments are being requested to determine the scope of the analysis, and identify significant issues and alternatives to the Proposed Action. The estimated date for issuance of the draft environmental impact statement is May 2006.

Scoping Process

The Forest Service, in conjunction with Montana State agencies, will hold public scoping meetings in Libby, Montana, Bonners Ferry, Idaho; and noxon, Montana during the week of August 15, 2005. Specific location and time of the meetings will be published in the local newspapers approximately one week prior to the meeting date. A scoping document is available upon request or an electronic copy may be viewed at: http://www.fs.fed.us/rl/kootenai/projects/montanore.

Early Notice of Importance of Public Participation in Subsequent Environmental Review

A draft EIS will be prepared for comment. The comment period on the draft EIS ends 60 days from the date the Environmental Protection Agency publishes the notice of availability in the Federal Register.

The Forest Service believes, at this early stage, it is important to give reviewers notice of several court rulings related to the public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this Proposed Action participate by the close of the 60 day comment period so that substantive comments and objections are made available to the Forest Service at a time when it can meaningfully consider and respond to them in the final EIS.

To assist the Forest Service in identifying and considering issues and concerns on the Proposed Action, comments on the draft EIS should be as specific as possible. It is also helpful if comments refer to specific pages or chapters of the draft EIS. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal, and will be available for public inspection.

(Authority: 40 CFR 1501.7 and 1508.22; Forest Service Handbook 1909.15,Section 21)

Dated: July 7, 2005.
Cami Winslow,
Acting Forest Supervisor, Kootenai National Forest.

[FR Doc. 05-13846 Filed 7-13-05; 8:45 am]

BILLING CODE 3410-11-M